SUSQUEHANNA RIVER BASIN COMMISSION

Actions Taken at June 15, 2023 Meeting

AGENCY: Susquehanna River Basin Commission.

ACTION: Notice.

SUMMARY: As part of its regular business meeting held on June 15, 2023, in Harrisburg, Pennsylvania, the Commission approved the applications of certain water resources projects and took additional actions, as set forth in the SUPPLEMENTARY INFORMATION below.

DATES: June 15, 2023.

ADDRESSES: Susquehanna River Basin Commission, 4423 N Front Street, Harrisburg, PA 17110-1788.

FOR FURTHER INFORMATION CONTACT: Jason E. Oyler, General Counsel and Secretary, telephone: (717) 238-0423, ext. 1312, fax: (717) 238-2436; email: joyler@srbc.net. Regular mail inquiries may be sent to the above address. See also the Commission website at www.srbc.net.

SUPPLEMENTARY INFORMATION: In addition to the actions taken on projects identified in the summary above and the listings below, the following items were also acted upon at the business meeting: (1) election of Commission officers for FY2024; (2) reconciliation of FY2024 budget; (3) approval of an easement agreement; (4) adoption of General Permit GP-02 Groundwater Withdrawals for Emergency Uses or Maintenance Activities; (5) adoption of Water Resources Program for FY2024; (6) approval an emergency certificate extension; and (7) approval of a waiver of application fees.

Project Applications Approved

1. Project Sponsor: Biglerville Borough Authority. Project Facility: Biglerville Borough Water Company, Biglerville Borough and Butler Township, Adams County, Pa. Application for renewal of groundwater withdrawal of up to 0.112 mgd (30-day average) from Well 7 (Docket No. 19930503).

2. Project Sponsor and Facility: Blackhill Energy L.L.C. (Susquehanna River), Ulster Township, Bradford County, Pa. Application for surface water withdrawal of up to 3.024 mgd (peak day).

3. Project Sponsor and Facility: Chesapeake Appalachia, L.L.C. (Sugar Creek), North Towanda Township, Bradford County, Pa. Application for renewal of surface water withdrawal of up to 0.999 mgd (peak day) (Docket No. 20180602).

4. Project Sponsor and Facility: Chesapeake Appalachia, L.L.C. (Susquehanna River), Asylum Township, Bradford County, Pa. Application for surface water withdrawal of up to 3.000 mgd (peak day).

5. Project Sponsor: Coal Mountain Development and Recreation L.L.C. Project Facility: Eagles Ridge Golf Course, Ferguson Township, Clearfield County, Pa. Application for renewal of consumptive use of up to 0.099 mgd (30-day average) (Docket No. 20080613).

6. Project Sponsor: Glenn O. Hawbaker, Inc. Project Facility: Naginey Facility (Naginey Quarry Processing Pond), Armagh Township, Mifflin County, Pa. Modification to increase groundwater withdrawal (30-day average) by an additional 0.425 mgd, for a total groundwater withdrawal of up to 0.725 mgd (Docket No. 20211204).

7. Project Sponsor: Hazleton City Authority. Project Facility: Delano Division, Mahanoy Township, Schuylkill County, Pa. Application for groundwater withdrawal of up to 0.275 mgd (30-day average) from Park Place Well 1.

8. Project Sponsor and Facility: Hillandale-Gettysburg, L.P., Tyrone Township, Adams County, Pa. Application for groundwater withdrawal of up to 0.050 mgd (30-day average) from Well 5.

9. Project Sponsor and Facility: L.D.G. Innovation, L.L.C. (Tioga River), Lawrenceville Borough, Tioga County, Pa. Application for renewal of surface water withdrawal of up to 0.750 mgd (peak day) (Docket No. 20180603).

10. Project Sponsor: Milton Hershey School. Project Facility: Spring Creek Golf Course, Derry Township, Dauphin County, Pa. Application for renewal of consumptive use of up to 0.081 mgd (peak day) (Docket No. 20080615).

11. Project Sponsor and Facility: Mountain Energy Services, Inc. (Tunkhannock Creek), Tunkhannock Township, Wyoming County, Pa. Application for renewal of surface water withdrawal of up to 1.498 mgd (peak day) (Docket No. 20180605).

12. Project Sponsor: New Enterprise Stone & Lime Co., Inc. Project Facility: Laflin Quarry, Plains Township, Luzerne County, Pa. Applications for consumptive use (peak day) of up to 0.040 mgd and groundwater withdrawals (30-day averages) of up to 0.110 mgd from Well 1, 0.132 mgd from Well 2, 0.484 mgd from Well 3, 0.110 mgd from Well 4, 0.209 mgd from Well 5, and 0.209 mgd from Well 6.

13. Project Sponsor and Facility: Northeast Marcellus Aqua Midstream I, L.L.C. (Susquehanna River), Tunkhannock Township, Wyoming County, Pa. Application for renewal of surface water withdrawal of up to 5.000 mgd (peak day) (Docket No. 20200919).

14. Project Sponsor and Facility: Pennsylvania General Energy Company, L.L.C. (Pine Creek), Watson Township, Lycoming County, Pa. Application for renewal of surface water withdrawal of up to 0.918 mgd (peak day) (Docket No. 20180608).

15. Project Sponsor and Facility: Pilgrim's Oak Golf Course (Peters Creek and Unnamed Tributary to Peters Creek), Drumore Township, Lancaster County, Pa. Applications for renewal of surface water withdrawal of up to 0.237 mgd (peak day) and consumptive use of up to 0.237 mgd (30-day average) (Docket No. 19980505).

16. Project Sponsor and Facility: Pro-Environmental, L.L.C. (Martins Creek), Lathrop Township, Susquehanna County, Pa. Application for renewal of surface water withdrawal of up to 0.999 mgd (peak day) (Docket No. 20180609).

17. Project Sponsor and Facility: Repsol Oil & Gas U.S.A., L.L.C. (Fall Brook), Troy Township, Bradford County, Pa. Application for renewal of surface water withdrawal of up to 0.176 mgd (peak day) (Docket No. 20180610).

18. Project Sponsor and Facility: Repsol Oil & Gas U.S.A., L.L.C. (Unnamed Tributary to North Branch Sugar Creek), Columbia Township, Bradford County, Pa. Application for renewal of surface water withdrawal of up to 0.926 mgd (peak day) (Docket No. 20180611).

19. Project Sponsor and Facility: State College Borough Water Authority, Benner Township, Centre County, Pa. Applications for renewal of groundwater withdrawals (30-day averages) of up to 2.160 mgd from Well 62, 0.720 mgd from Well 63, 0.850 mgd from Well 64, and 0.720 mgd from Well 65 (Docket No. 19920102).

20. Project Sponsor and Facility: Sugar Hollow Water Services L.L.C. (Bowman Creek), Eaton Township, Wyoming County, Pa. Application for renewal of surface water withdrawal of up to 0.249 mgd (peak day) (Docket No. 20180612).

21. Project Sponsor and Facility: Susquehanna Gas Field Services, L.L.C. (Susquehanna River), Meshoppen Township, Wyoming County, Pa. Application for renewal of surface water withdrawal of up to 1.650 mgd (peak day) (Docket No. 20180614).

22. Project Sponsor and Facility: S.W.N. Production Company, L.L.C. (Cowanesque River), Deerfield Township, Tioga County, Pa. Application for surface water withdrawal of up to 1.500 mgd (peak day).

23. Project Sponsor and Facility: Titanium Metals Corporation (TIMET), Caernarvon Township, Berks County, Pa. Application for renewal of consumptive use of up to 0.177 mgd (30-day average) (Docket No. 20080616).

24. Project Sponsor and Facility: Town Big Flats, Chemung County, N.Y. Applications for renewal with an increase of groundwater withdrawals (30-day averages) of up to 0.577 mgd from W.D. 2-Well 1 and 0.365 mgd from W.D. 2-Well 2 (Docket No. 19910304).

25. Project Sponsor and Facility: Town of Erwin, Steuben County, N.Y. Application for groundwater withdrawal of up to 1.440 mgd (30-day average) from Well 7.

Commission-Initiated Project Approval Modification

1. Project Sponsor and Facility: Village of Oxford, Town of Oxford, Chenango County, N.Y. Conforming the grandfathered amount with the forthcoming determination for groundwater withdrawals (30-day averages) of up to 0.402 mgd from Well 1 and 0.099 mgd from Well 2 (Docket No. 20040601).

Projects Tabled

1. Project Sponsor and Facility: Dillsburg Area Authority, Carroll Township, York County, Pa. Application for renewal of groundwater withdrawal of up to 0.460 mgd (30-day average) from Well 7 (Docket No. 20070907).

2. Project Sponsor and Facility: Nicholas Meat, L.L.C., Greene Township, Clinton County, Pa. Applications for groundwater withdrawals (30-day averages) of up to 0.288 mgd from Well WS-1, 0.173 mgd from Well WS-3 and 0.144 mgd from Well WS-4.

Authority: Public Law 91-575, 84 Stat. 1509 et seq., 18 CFR parts 806, 807, and 808.

Dated: June 21, 2023.
Jason E. Oyler,
General Counsel and Secretary to the Commission.

[FR Doc. 2023-13508 Filed 6-23-23; 8:45 am]

BILLING CODE 7040-01-P